ENVIRONMENTAL PROTECTION AGENCY

[FRL-6964-2]

State Activities To Quantify and Reduce Greenhouse Gas Emissions: Assistance Competition

AGENCY: Environmental Protection Agency (EPA).

ACTION: Notice; solicitation of applications.

SUMMARY: Today's document announces the availability of funds and solicits proposals from state agencies involved with climate change and air quality issues, for greenhouse gas (GHG) emissions inventories and GHG mitigation plans. To this purpose, EPA will make available grants of up to $25,000 (for inventories) and up to $75,000 (for mitigation plans) to each recipient in the form of cooperative agreements.

DATES: Deadline for Intents to Apply: April 30, 2001.

Proposal Submissions Deadline: May 31, 2001.

FOR FURTHER INFORMATION CONTACT: Denise Mulholland, (202) 564-3471.

SUPPLEMENTARY INFORMATION: This solicitation notice falls under the authority of section 103 of the Clean Air Act. The Catalog of Federal Domestic Assistance number for this notice is 66.606.

Contents by Section

I. Eligible Entities

II. Background

III. Overview and Deadlines

IV. Funding Issues

V. Selection Criteria

VI. Evaluation and Selection

VII. Proposals

VIII. Other Items of Interest

IX. How to Apply

I. Eligible Entities

Organizations being targeted for cooperative agreements include but are not limited to state environmental agencies, energy offices, economic development agencies, and public utility commissions. 501(c)(4) entities and profit-makers are not eligible.

II. Background

State governments will be affected by the environmental impacts of climate change. This Request for Proposals (RFP) will enable state authorities : (1) To understand the magnitude and sources of their GHG emissions (inventories—Phase I); and (2) to evaluate, and ultimately implement, policies, technologies and programs that reduce GHG emissions while providing economic and environmental (e.g. clean air) benefits (mitigation plans—Phase II).

For state agencies, changes in climate are likely to make protection of the public's health, environment and economy more difficult. Increased temperatures during the summer are expected to increase the number of ozone exceedances, increase wetland losses through sea level rise, affect ecosystems and impact water resources through changes in precipitation amounts and seasonality. Changes in climate are expected to contribute to increases in heat-related deaths brought on by hotter summers and more or longer heat waves, encourage the proliferation and migration of disease-carrying mosquitoes and increase the incidence of infectious diseases such as encephalitis, malaria, and dengue. From an economic perspective, changes in climate are expected to have their greatest impact on economies based on natural resources, such as agriculture and forestry, as well as recreation and tourism. Changes in climate, because of the likelihood of more extreme weather events, threaten state and regional business sectors and infrastructure, such as roadways, bridges, storm sewers, flood control levees and water supplies.

Current state policies directly affect many sources of GHG emissions, for example, through control of transportation, land use, solid waste disposal, building codes and procurement practices. This control is exercised, for example, by promulgating and enforcing regulations, collecting revenues and establishing utility guidelines. States therefore have the opportunity to reduce GHG emissions while capitalizing on the co-benefits of GHG mitigation actions. Among the co-benefits are creating jobs, developing new markets for environmental technologies, improving air quality, protecting public health, reducing energy costs, reducing landfill costs, etc.

Therefore, EPA's State and Local Capacity Building Branch seeks to support up to 10 state governments with the voluntary development of programs to identify and/or analyze GHG emissions and mitigation options. Through this Notice, EPA seeks proposals for greenhouse gas inventories and mitigation plans to complement existing inventories and plans. Thirty-five states ¹ and Puerto Rico have prepared or are in the process of preparing baseline GHG emission inventories by gas and source; EPA provides guidance for preparing inventories (available online at http://www.epa.gov/ttnchie1/eiip/techreport/volume08/index.html_). Samples of these inventories are online at http://yosemite.epa.gov/globalwarming/ghg.nsf/emissions/StateAuthoredInventories. Inventories are the foundation for analyzing mitigation options and developing a state action plan. Twenty-six states ² and Puerto Rico have completed or are preparing state action plans; EPA provides a guidance book for preparing action plans (available online at http://www.epa.gov/globalwarming/publications/reference/stateguidance/index.html). Samples of these action plans are available online at: http://yosemite.epa.gov/globalwarming/ghg.nsf/actions/StateActionPlans. In order to broaden the base of information available about state greenhouse gas emissions and potential mitigation options, OAP will give priority to proposals for inventories and action plans that do not duplicate existing work and that do incorporate clean air and other co-benefits.

¹ Current Phase I states: Alabama, California, Colorado, Connecticut, Delaware, Florida, Georgia, Hawaii, Illinois, Indiana, Iowa, Kansas, Kentucky, Maine, Maryland, Massachusetts, Minnesota, Mississippi, Missouri, Montana, Nevada, New Hampshire, New Jersey, New Mexico, New York, North Carolina , Oregon, Pennsylvania, Rhode Island, Tennessee, Utah, Vermont, Virginia, Washington and Wisconsin.

² Current Phase II states: Alabama, California, Colorado, Delaware, Hawaii, Illinois, Iowa, Kentucky, Maine, Maryland, Massachusetts, Minnesota, Missouri, Montana, New Jersey, New Hampshire, New Mexico, New York, North Carolina, Oregon, Pennsylvania, Tennessee, Utah, Vermont, Washington and Wisconsin.

III. Overview and Deadlines

A. Overview

In today's Notice, OAP is soliciting proposals for state greenhouse gas inventories and mitigation plans. These will enable states to understand the magnitude and sources of their GHG emissions and to evaluate, and eventually implement, voluntary programs to reduce those emissions while achieving economic and environmental co-benefits. OAP is particularly interested in proposals that result in new partnerships, involve an array of state agencies and stakeholders, and address the links between clean air and climate change.

Interested persons can obtain copies of this solicitation at no charge by accessing EPA's Global Warming website at: http://www.epa.gov/globalwarming/visitorcenter/decisionmakers/index.html

B. Deadlines

In order to efficiently manage the selection process, the Office of Atmospheric Programs requests that an informal “Intent to Apply” be submitted by April 30, 2001. (Please provide project title or subject and email address and indicate if you plan to take part in either of the informational conference calls). An “Intent to Apply” simply states in the form of e-mail, phone, or fax that your organization intends to submit a proposal to be received by the deadline. Submitting an “Intent to Apply” does not commit an organization to submit a proposal. The “Intent to Apply” is an optional submission; those not submitting an “Intent to Apply” may still apply by the deadline.

The deadline for submitting completed proposals (original and one copy) is May 31, 2001. (Instructions for submitting Intents to Apply and Proposals are found in section IX below.) The Office of Atmospheric Programs expects to complete the Evaluation/Selection process and make recommendations to the grants office in July 2001. Applicants will be notified if they have been recommended for funding by July 31, 2001. Agreements will be issued in August/September, 2001.

To ensure that every agency interested in participation has an opportunity to gain any needed additional information useful to the application process, OAP has scheduled two sets of conference calls. The first pair of calls is primarily intended to help agencies decide whether this competition is appropriate for them prior to the deadline for submitting an Intent to Apply. The second pair of calls is intended to assist agencies with questions about the proper completion and submission of their proposals. The content of the calls is entirely dependent upon the questions asked. The dates and times of these calls, with the call-in phone numbers and access codes, are:

Wednesday, April 18, from 4:00-5 p.m., EST (phone number: (202) 260-7280; access code: 8901#)

Thursday, April 19, from 4:00-5 p.m., EST (phone number: (202) 260-7280; access code: 8901#)

Wednesday, May 9, from 3:00-5 p.m., EST (phone number: (202) 260-8330; access code: 0765#)

Thursday, May 10, from 2:30-4:30 p.m., EST (phone number: (202) 260-1015; access code 3661#)

Questions and answers from the conference calls will be summarized and posted as soon as possible on the EPA Global Warming website; the precise web location of the summaries will be announced at http://www.epa.gov/globalwarming/visitorcenter/decisionmakers/index.html.

In order to ensure that all applicants have access to the same information, the only forums for posing substantive questions on the competition are these conference calls. Except for responses to procedural questions (e.g. due dates, proposal formats), EPA will not provide other assistance prior to final submission of applications.

IV. Funding Issues

For FY01, approximately $250,000 in funding will be available for approximately 4 to 10 cooperative agreements to develop climate activities at the state levels. The two focuses of cooperative agreements for FY01 are:

• Greenhouse Gas Emission Inventories for the year 1990 and the most current year for which data are available. Funds available from EPA: up to $25,000 per cooperative agreement; 1 to 10 cooperative agreements expected to be awarded.

• Action Plans: analysis of greenhouse gas mitigation options and their co-benefits. Funds available from EPA: up to $75,000 per cooperative agreement; 1 to 3 cooperative agreements expected to be awarded.

Matching funds are not required.

V. Selection Criteria

Each eligible proposal will be evaluated according to the criteria set forth below. Proposals which are best able to directly and explicitly address the primary criteria will have a greater likelihood of being selected as a recipient for the assistance competition discussed in today's notice. Each proposal will be rated under a points system, with 65 points possible for inventories and 130 points possible for action plans.

The proposals will be ranked according to the following criteria and maximum point allocation:

Evaluation Criteria
Criterion | Maximum points per criterion for phase: I | Maximum points per criterion for phase: II
Workplan, including evaluation plan and time frame, that is detailed and reasonable. This should include a clearly- stated and appropriate budget | 20 | 20
Project is to be performed by state environmental agencies, energy offices, economic development agencies, and public utility commissions or combinations of agencies. Projects by organizations that support the efforts of such agencies will also be considered provided that there will be significant involvement of state agencies | 10 | 10
Evidence of multi-stakeholder involvement, such as the creation of a work group that will meet regularly to facilitate project success | 20 | 20
A complete and reasonable outreach plan to make the report available to the public. Coordination with other entities (non-profits, private sector, state agencies, local agencies) on an outreach plan is encouraged | 10 | 10
Geographic representation. Preference will be given to areas of the country that are performing fewer activities to reduce GHG emissions. Projects should also demonstrate sustainability after cooperative agreement funds have been expended | 5 | 5
Consideration of clean air benefits (SO2, NOX, particulate matter, volatile organics, CO, O3, etc) resulting from greenhouse gas mitigation options. Inclusion of co-benefits information in education and outreach efforts | N/A | 10
Calculation of potential GHG emission reductions and other co-benefits such as jobs created or energy savings. Calculations should include annual benefits by completion date of project, by the year 2010 and by the year 2020. Support documentation must be submitted and should define and justify assumptions (e.g., market penetration rates) | N/A | 20
Mechanism to monitor and report annual recommendations/results (tons, economic benefits, outreach results, etc) after the project ends | N/A | 15
Completion of Phase I for 1990 and most current year GHG data is available | N/A | 20
Total points possible | 65 | 130

VI. Evaluation and Selection

Each proposal will be evaluated by a team chosen to address a full range of climate change and air quality concerns and EPA program expertise. The team will base its evaluation solely on the criteria identified in this Notice. Completed evaluations will be referred to a Selection Committee of OAP managers who are responsible for final selection. Applicants will be notified promptly after this process regarding their proposal's status.

Proposals will be reviewed and agreements will be issued according to the following schedule:

RFP issued: April 4, 2001.

Intent to Apply: April 30, 2001.

Proposals deadline: May 31, 2001.

Review: June 2001.

Recommendations: July 2001.

Notification letters mailed: by July 31, 2001.

Agreements issued: August-September 2001.

VII. Proposals

The proposal must be submitted with the completed federal grant application forms and be a maximum of fifteen (15) pages (no less than 1.5 line spacing, no less than 12 pt font, 1 inch margins), excluding federal forms. The complete grants application package can be downloaded from: http://www.epa.gov/region4/grantpgs/grants.htm. The proposal should conform to the following outline:

1. Title

2. Applicant (Organization) and contact name, phone number, fax and e-mail address

3. Summary of funds requested from EPA

4. Project period: beginning and ending dates (for planning purposes, applicants should assume funds will be available in August or September 2001). Projects must be completed within two years of award date.

5. Project purpose: goals and objectives

6. Supporting and/or coordinating agencies and private sector parties and their roles

7. Previous or current climate change activities and their status.

8. Outreach and education plan and participants

9. Description of results and products

10. Methods for calculating GHG emission reductions and economic and environmental co-benefits, including clean air benefits (Phase II only)

11. Project evaluation plan—including mechanism for monitoring and reporting future results (Phase II only) on an annual basis

12. Workplan—The narrative workplan should not exceed 5 pages and should include:

(a) detailed description of all tasks;

(b) dates of initiation and completion;

(c) products and deliverables; and

(d) proposed budget for each task

13. Report Schedule: Acknowledgement of quarterly report requirement (schedule established by EPA) and planned final report submission date

14. Budget: provide a budget for the following categories:

—Personnel

—Fringe Benefits

—Contractual Costs

—Travel

—Equipment

—Supplies

—Other

—Total Direct Costs

—Total Indirect Costs: must include documentation of accepted indirect rate

—Total Cost

VIII. Other Questions

1. Does this funding expire at the end of Fiscal Year 2001? Will two year projects be considered?

Funding does not expire at the end of fiscal year 2001. The budget and cost estimates for two year projects should indicate what will be accomplished in each of the first and second years. The total amount of the grant does not change if the project period extends beyond two years.

2. May an eligible organization submit more than one proposal?

No. Organizations may receive funding for the development of either an inventory or an action plan, but not both.

3. May an eligible organization resubmit a proposal which was previously submitted to another competition for funding, but was not selected?

Yes.

IX. How To Apply

Intents to Apply may take the form of email, fax, or phone call to the program contact, Denise Mulholland, (address listed below; phone: (202) 564-3471; fax: (202) 565-2095; email: mulholland.denise@epa.gov.) Please include organization, contact, phone and project title and indicate if you plan to take part in one of the conference calls.

Please submit informal intents to apply by April 30, 2001. (Remember, the Intent to Apply is not required and will have no bearing on the judging process, we encourage it for the benefit of our planning process only. Submission of the Intent to Apply does not commit the applicant to submit a proposal.) Submission of an Intent to Apply or a proposal does not guarantee funding. EPA reserves the right to reject all applications and make no awards.

Completed Application Packages must be postmarked or received by regular or express mail on or before midnight May 31, 2001. Please provide an original and one copy. The application package should be submitted to Denise Mulholland at the following address: Mailing Address:OAR Office of Atmospheric Programs, State and Local Capacity Building Branch, U.S. Environmental Protection Agency, 1200 Pennsylvania Avenue, NW (Mailcode 6205J), Washington, DC 20460.

Shipping Address: OAR Office of Atmospheric Programs, State and Local Capacity Building Branch, U.S. Environmental Protection Agency, 501 3rd St., NW., room 276, Washington, DC 20460.

Deadline for Completed Final Proposals must be received or postmarked no later than midnight on May 31, 2001.

Authority: 42 U.S.C. 1875(b).

Dated: March 30, 2001.
Paul Stolpman,
Director, Office of Atmospheric Programs, Office of Air and Radiation, Environmental Protection Agency.

[FR Doc. 01-8496 Filed 4-5-01; 8:45 am]

BILLING CODE 6560-01-P